ENVIRONMENTAL PROTECTION AGENCY

40 CFR Part 52

[EPA-R08-OAR-2014-0370; FRL-9930-71-Region 8]

Approval and Promulgation of Air Quality Implementation Plans; State of Utah; Motor Vehicle Inspection and Maintenance and Associated Revisions

AGENCY: Environmental Protection Agency (EPA).

ACTION: Final rule.

SUMMARY: The Environmental Protection Agency (EPA) is approving State Implementation Plan (SIP) revisions submitted by the State of Utah on January 10, 2013 and January 28, 2014. The revisions involve amendments to Section X, Vehicle Inspection and Maintenance Program, Part A, General Requirements and Applicability; the addition of Section X, Vehicle Inspection and Maintenance Program, Part F, Cache County; and revisions to Utah Administrative Rules R307-110-1, R307-110-31, and R307-110-36. EPA is approving these SIP revisions in accordance with the requirements of section 110 of the Clean Air Act (CAA).

DATES: This final rule is effective October 9, 2015.

ADDRESSES: The EPA has established a docket for this action under Docket ID No. EPA-R08-OAR-2014-0370. All documents in the docket are listed on the www.regulations.gov Web site. Although listed in the index, some information is not publicly available, e.g., Confidential Business Information (CBI) or other information whose disclosure is restricted by statute. Certain other material, such as copyrighted material, is not placed on the Internet and will be publicly available only in hard copy form. Publicly available docket materials are available either electronically through www.regulations.gov or in hard copy at the Air Program, Environmental Protection Agency (EPA), Region 8, 1595 Wynkoop Street, Denver, Colorado 80202-1129. EPA requests that if at all possible, you contact the individual listed in FOR FURTHER INFORMATION CONTACT section to view the hard copy of the docket. You may view the hard copy of the docket Monday through Friday, 8:00 a.m. to 4:00 p.m., excluding federal holidays.

FOR FURTHER INFORMATION CONTACT: Tim Russ, Air Program, EPA, Region 8, Mailcode 8P-AR, 1595 Wynkoop Street, Denver, Colorado 80202-1129, (303) 312-6479, russ.tim@epa.gov.

SUPPLEMENTARY INFORMATION:

Table of Contents

I. Background

II. What was the State's process?

III. EPA's Evaluation of the State's Revisions to Section X, Vehicle Inspection and Maintenance Program, Part A, General Requirements and Applicability

IV. EPA's Evaluation of the State's Revisions to Section X, Vehicle Inspection and Maintenance Program, Part F, Cache County

V. EPA's Evaluation of the State's Associated Revisions to Utah Rules R307-110-1, R307-110-31, and R307-110-36

VI. Consideration of Section 110(l) of the Clean Air Act

VII. Final Action

VIII. Incorporation by Reference

IX. Statutory and Executive Order Reviews

I. Background

A. Utah's Revisions to SIP Section X, Vehicle Inspection and Maintenance Program, Part A, General Requirements and Applicability

Section X of the Utah SIP addresses the provisions and requirements for the motor vehicle inspection and maintenance (I/M) programs that are administered by five counties in Utah. Section X of the SIP is divided into six subparts “A” through “F”; Part A addresses general requirements and applicability provisions that are common to each of the counties' I/M programs, Part B is the Davis County vehicle I/M program, Part C is the Salt Lake County vehicle I/M program, Part D is the Utah County vehicle I/M program, Part E is the Weber County vehicle I/M program, and Part F is the Cache County vehicle I/M program.

Section X, Part A is entitled “Vehicle Inspection and Maintenance Program, General Requirements and Applicability.” The current version of Part A, last approved by EPA on November 2, 2005 (70 FR 66264), provides a discussion of the federal I/M requirements, the aspects of On-Board Diagnostics (OBD) tests, a brief history of the Utah I/M program and the state's general authority and general information regarding the applicability of the Utah SIP to such I/M program aspects as test frequency, enforcement, vehicle registration, and change in vehicle ownership. Although duplicative, each of the four counties' existing I/M programs, found in Parts B, C, D, and E to Section X, contained very similar language as provided in Part A.

By a letter dated January 10, 2013, the Governor of Utah submitted a revision to Section X, Part A that updates and expands Part A to contain the relevant brief history of the Utah I/M program, the state's general authority, additional language on test types, general public information, general enforcement provisions which are relevant to the four counties implementing an existing I/M program, and the new I/M program in Cache County. As Part A is applicable to all five of the counties' I/M programs, this allows the removal of the duplicative general language in existing Section X and allows the consolidation of the common information and provisions in each counties' I/M program into Part A. Each of the counties' I/M programs contained in Section X, Parts B through F will then reference Part A.

B. Utah's Revisions to SIP section X, Vehicle Inspection and Maintenance Program, To Add Part F, Cache County

On November 13, 2009 (74 FR 58688), EPA designated a portion of Cache County, Utah as nonattainment for the 2006 PM2.5 ¹ 24-hour national ambient air quality standard (NAAQS). The Cache County portion includes the city of Logan, Utah. The nonattainment area, which also includes portions of Franklin County, Idaho, is identified by EPA as “Logan—UT/ID.”

¹ PM2.5 is Particulate Matter less than or equal to 2.5 microns in diameter.

Through the course of the development of a dispersion modeled attainment demonstration for Utah's attainment plan, a motor vehicle I/M program was identified by the state as a reasonable control strategy to achieve reductions of PM2.5 precursor emissions of nitrogen oxides (NOX) and volatile organic compounds (VOC) necessary to support the SIP attainment demonstration for the Cache County portion of the Logan-UT/ID 2006 PM2.5 24-hour NAAQS nonattainment area. EPA notes, however, that under the applicable subparts of Part D of Title I of the CAA for PM2.5 attainment plans, subparts 1 and 4, Cache County's I/M program is not a CAA mandatory or required I/M program and is therefore not held to the same level of applicable requirements as found in 40 CFR part 51, subpart S (hereafter “40 CFR 51, subpart S”), I/M program requirements. As an example, a performance standard demonstration is not required for the Cache County I/M program. Part F of Section X, in conjunction with Section X, Part A as discussed above, was instead designed by the County and state to meet the minimum applicable I/M provisions and requirements presented in 40 CFR 51, subpart S. It is also noted in Part F that although only a portion of Cache County was designated as nonattainment for the 2006 PM2.5 24-hour NAAQS, the I/M program will be implemented County-wide.

By a letter dated January 28, 2014, the Governor submitted a SIP revision to add Section X, Part F, for the new motor vehicle I/M program for Cache County. As described further below, the Cache County I/M program was designed with certain necessary components from 40 CFR 51, subpart S in order to have a viable I/M program that helps reduce NOX and VOC precursor emissions of PM2.5. The I/M program also generates emission reductions suitable for use in the PM2.5 attainment demonstration that was subsequently submitted by Utah to EPA on December 16, 2014.

C. Utah's Revisions to Rules R307-110-1, R307-110-31, and R307-110-36

The Utah Administrative Code is the body of all effective administrative rules as compiled and organized by the Utah Division of Administrative Rules, Utah Department of Administrative Services.² Utah's Administrative Rules are a portion of Utah's Codified Law. In Utah, statements written by state agencies which have the effect of law are called administrative rules. Unlike state statutes, which change only when the Utah Legislature is in session, administrative rules change throughout the year. A Utah administrative rule serves at least two purposes; first, an enacted administrative rule has the binding effect of law, and second, an administrative rule informs citizens of actions a state government agency will take or how a state agency will conduct its business. Under the authority of the Utah Air Conservation Act as provided in Utah Code Title 19, Chapter 2, the Utah Air Quality Board (UAQB) adopts certain provisions and requirements into the Utah SIP. Those particular SIP elements must then be incorporated by reference into the appropriate section of the Utah Administrative Rules (hereafter “Utah Rules”).

² For further information and citations to the relevant Utah statutes that govern rulemaking, please refer to the Web site of the Division of Administrative Rules: http://www.rules.utah.gov/ .

By letters dated January 10, 2013 and January 28, 2014, the Governor submitted SIP revisions involving updates to sections of the R307-110 series air quality Utah Rules. The Governor's submittals requested EPA to approve actions taken by the UAQB that updated three sections of the Utah Rules R307-110 series which are entitled “General Requirements: State Implementation Plan.” The three rules are:

1. R307-110-1 which incorporates by reference the Utah SIP into the Utah Rules and advises the public that the SIP is available on the Utah Division of Air Quality (UDAQ) Web site.

2. R307-110-31 which incorporates by reference Utah SIP Section X, Vehicle Inspection and Maintenance Program, Part A, General Requirements and Applicability.

3. R307-110-36 which incorporates by reference Utah SIP Section X, Vehicle Inspection and Maintenance Program, Part F, Cache County.

D. Proposed rule.

On November 10, 2014, EPA published a proposed rule in the Federal Register (see 79 FR 66670) in which we fully described and proposed approval of the SIP revisions discussed above. Our proposed rule provided an opportunity for public comment through December 10, 2014. We did not receive any comments in response to our November 10, 2014 proposed rule.

II. What was the State's process?

Section 110(a)(2) of the CAA requires that a state provide reasonable notice and public hearing before adopting a SIP revision and submitting it to us.

A. The Governor's January 10, 2013 SIP Submittal

On October 15, 2012, October 16, 2012, and October 17, 2012 the UAQB of the Utah Department of Environmental Quality conducted public hearings to consider the adoption of revisions and additions to the Utah SIP and the appropriate sections of the Utah Rules. The revisions affecting the SIP involved SIP Section X, Vehicle Inspection and Maintenance Program, Part A, General Requirements and Applicability; SIP Section X, Vehicle Inspection and Maintenance Program, Part F, Cache County; and Utah Rules R307-110-1, R307-110-31, and R307-110-36. After reviewing and responding to comments received before and during the public hearings, the UAQB adopted the proposed revisions on December 5, 2012. The SIP and Utah Rule revisions became state effective on December 6, 2012 and were submitted by the Governor to EPA by a letter dated January 10, 2013. By a subsequent letter dated February 25, 2013, Bryce Bird, Director, UDAQ submitted the necessary administrative documentation that supported the Governor's submittal.

We evaluated the Governor's January 10, 2013 submittal for SIP Section X, Vehicle Inspection and Maintenance Program, Part A, General Requirements and Applicability; SIP Section X, Vehicle Inspection and Maintenance Program, Part F, Cache County; and Rules R307-110-1, R307-110-31, and R307-110-36 and determined that Utah met the requirements for reasonable notice and public hearing under section 110(a)(2) of the CAA. By operation of law under section 110(k)(1)(B) of the CAA, the Governor's January 10, 2013 submittal was deemed complete on July 10, 2013.

B. The Governor's January 28, 2014 SIP Submittal

On August 7, 2013 the UAQB proposed for public comment amendments to the Utah SIP for Section X, Vehicle Inspection and Maintenance Program, Part F, Cache County and Utah Rule R307-110-36. These proposed revisions superseded and replaced those previous revisions to the SIP for Section X, Vehicle Inspection and Maintenance Program, Part F, Cache County and Utah Rule R307-110-36 that the Governor had submitted to EPA with his letter to EPA dated January 10, 2013. Included with the state's administrative documentation for these SIP and Rule revisions were letters dated October 23, 2013 and October 24, 2013 from Bryce Bird, Director, UDAQ, to the UAQB. Both of these letters indicated that a public comment period was held from September 1 through October 1, 2013, regarding the proposed Cache County I/M program (ref. October 24, 2013 letter) and Utah Rule R307-110-36 (ref. October 23, 2013 letter) revisions, and that no public comments were received and no public hearings were requested. In consideration of these two letters, the UAQB subsequently adopted the proposed revisions on November 6, 2013. The SIP and Rule revisions became State effective on November 7, 2013, and were submitted by the Governor to EPA by a letter dated January 28, 2014. By a subsequent letter dated February 4, 2014, Bryce Bird, Director, UDAQ submitted the necessary administrative documentation that supported the Governor's submittal.

We evaluated Utah's January 28, 2014 submittal and determined that the State met the requirements for reasonable notice and public hearing under section 110(a)(2) of the CAA. By a letter dated June 30, 2014, we advised the Governor that the SIP and Rule revisions submittal was deemed to have met the minimum “completeness” criteria found in 40 CFR part 51, Appendix V.

III. EPA's Evaluation of the State's Revisions to Section X, Vehicle Inspection and Maintenance Program, Part A, General Requirements and Applicability

As noted in section I of this action, Section X of the Utah SIP addresses the provisions and requirements for the motor vehicle I/M programs administered by five counties in Utah. Section X of the SIP is divided into six subparts, “A” through “F,” with Part A addressing general requirements and applicability provisions that are common to each of the counties' I/M programs. Section X, Part A is entitled “Vehicle Inspection and Maintenance Program, General Requirements and Applicability,” and its current provisions and requirements, as updated by the Governor's SIP submittal of January 10, 2013, are discussed below:

A. Utah SIP Section X, Part A: “Requirements.”

We provided a full analysis of the revisions to this section of the SIP in our proposed rule of November 10, 2014 (79 FR 66670). For the specific discussion, the reader is directed to section IV of our proposed rule which is entitled “IV. EPA's Evaluation of the State's Revisions to Section X, Vehicle Inspection and Maintenance Program, Part A, General Requirements and Applicability.” Please see page 79 FR 66672.

B. Utah SIP Section X, Part A: “General Applicability.”

We provided a full analysis of the revisions to this section of the SIP in our proposed rule of November 10, 2014 (79 FR 66670). For the specific discussion, the reader is directed to section IV of our proposed rule which entitled “IV. EPA's Evaluation of the State's Revisions to Section X, Vehicle Inspection and Maintenance Program, Part A, General Requirements and Applicability.” Please see pages 79 FR 66672 and 66673.

C. Utah SIP Section X, Part A: “General Summary.”

We provided a full analysis of the revisions to this section of the SIP in our proposed rule of November 10, 2014 (79 FR 66670). For the specific discussion, the reader is directed to section IV of our proposed rule which entitled “IV. EPA's Evaluation of the State's Revisions to Section X, Vehicle Inspection and Maintenance Program, Part A, General Requirements and Applicability.” Please see page 79 FR 66673.

Based on EPA's review of Utah's revisions to SIP Section X, Vehicle Inspection and Maintenance Program, Part A, Requirements, General Applicability, and General Summary and in consideration of our full analysis as provided in our proposed rule of November 10, 2014 (79 FR 66670), we have concluded that our approval is warranted. As noted in our November 10, 2014 proposed rule, this conclusion incorporates our review of our prior approval of this section of the SIP (see 70 FR 66264, November 2, 2005) and the applicable sections of 40 CFR 51, subpart S (sections 51.350 to 51.373). We have determined that the revisions to Section X, Vehicle Inspection and Maintenance Program, Part A, Requirements, General Applicability, and General Summary sufficiently address the applicable sections of 40 CFR 51, subpart S for these particular aspects of Utah's five counties' I/M programs. We, therefore, are approving these revisions to the SIP.

IV. EPA's Evaluation of the State's Revisions to Section X, Vehicle Inspection and Maintenance Program, Part F, Cache County

Section X, Part F of the Utah SIP addresses the provisions and requirements for the implementation of the motor vehicle I/M program in Cache County, Utah. Section X, Part F of the SIP contains three main components for the Cache County I/M program: (a.) The SIP language for Section X Part F that addresses applicability, a general description of the Cache County I/M program, and the time frame for implementation of the I/M program; (b.) the Cache County Emission Inspection/Maintenance Program Ordinance 2013-4; and (c.) the Bear River Health Department's Regulation 2013-1. We note that the Cache County Ordinance 2013-4 contains language which delegates the implementation of the Cache County I/M program to the Bear River Health Department (BRHD). All of the above documents were adopted by the UAQB on November 6, 2013 and were included with the Governor's SIP submittal of January 28, 2014. The documents were supplemented by the February 4, 2014 UDAQ submittal of the administrative documentation and are discussed in further detail below.

A. Section X, Vehicle Inspection and Maintenance Program, Part F, Cache County; Applicability, Description of the Cache County I/M Program, and I/M SIP Implementation

1. Applicability. We provided a full analysis of the revisions to this section of the SIP in our proposed rule of November 10, 2014 (79 FR 66670). For the specific discussion, the reader is directed to section V of our proposed rule which entitled “V. EPA's Evaluation of the State's Revisions to Section X, Part F, Cache County Vehicle Inspection and Maintenance Program.” Please see page 79 FR 66674.

2. Description of Cache County I/M Program. We provided a full analysis of the revisions to this section of the SIP in our proposed rule of November 10, 2014 (79 FR 66670). For the specific discussion, the reader is directed to section V of our proposed rule which is entitled “V. EPA's Evaluation of the State's Revisions to Section X, Part F, Cache County Vehicle Inspection and Maintenance Program.” Please see page 79 FR 66674. Our evaluation discussed components of the Cache County's I/M program involving such aspects as; Network Type, Test Convenience, Subject fleet, Station/inspector Audits, Waivers, Test frequency, Test Equipment, and Test Procedures.

3. I/M SIP Implementation. Our proposed rule of November 10, 2014 (79 FR 66670) noted on page 79 FR 66674 that the SIP states the following to address I/M implementation: “The I/M program ordinance, regulations, policies, procedures, and activities specified in this I/M SIP revision shall be implemented by January 1, 2014 and shall continue until a maintenance plan without an I/M program is approved by EPA in accordance with Section 175 of the Clean Air Act.”

B. Section X, Vehicle Inspection and Maintenance Program, Part F, Cache County; Appendix 1, Cache County Emission Inspection/Maintenance Program Ordinance 2013-4

We provided a full analysis of the revisions to this section of the SIP in our proposed rule of November 10, 2014 (79 FR 66670). For the specific discussion, the reader is directed to section V of our proposed rule which is entitled “V. EPA's Evaluation of the State's Revisions to Section X, Part F, Cache County Vehicle Inspection and Maintenance Program.” Please see page 79 FR 66674. Our evaluation discussed components of the Cache County's I/M program involving such aspects as: Section 1, Purpose; section 2, Powers and Duties; section 3, General Provisions; section 4, Guidelines to be Followed by the Bear River Board of Health in Implementing a Vehicle Emission Inspection and Maintenance Program in Cache County; section 5, Review of Need for Program; and section 6, Effective Date. Of particular note is section 2.3, which delegates implementation of the I/M program to the BRHD, and section 4, which sets several of the parameters for BRHD's program implementation, including test schedules, fees, and waivers.

C. Section X, Vehicle Inspection and Maintenance Program, Part F, Cache County; Appendix 2, Bear River Health Department Regulation 2013-1

This section of the SIP provides the BRHD's I/M regulation. The Cache County I/M program is not a CAA mandated program and is, therefore, allotted a certain amount of flexibility in the level of applicable requirements as compared to a CAA or otherwise required mandatory I/M program. The purpose of the Cache County I/M program is to achieve reductions in PM2.5 NAAQS precursor emissions of NOx and VOCs, to improve air quality, and to provide emission reductions for use in a dispersion modeled SIP attainment demonstration. To facilitate these objectives, EPA's analysis of the BRHD's Regulation 2013-1 included a comparison of the BRHD's Regulation 2013-1 to applicable sections of 40 CFR 51, subpart S “Inspection/Maintenance Program Requirements.” EPA's analysis of the BRHD's Regulation 2013-1 was accomplished as described below.

EPA reviewed the BRHD's Regulation 2013-1 for consistency with appropriate sections of the federal I/M regulations, as applicable to a non-mandatory I/M program, as codified in 40 CFR 51, subpart S, sections 51.350 through 51.373. We provided a full analysis of the revisions to this section of the SIP in our proposed rule of November 10, 2014 (79 FR 66670). For the specific discussion, the reader is directed to section V of our proposed rule which entitled “V. EPA's Evaluation of the State's Revisions to Section X, Part F, Cache County Vehicle Inspection and Maintenance Program.” Please see pages 79 FR 66674 through 66678. Our evaluation discussed components of Cache County's I/M program, with specific references to the particular sections of the BRHD's Regulation 2013-1 and how they appropriately addressed the applicable federal requirements including: 40 CFR 51.350—Applicability; 40 CFR 51.351—Enhanced I/M Performance Standard and 40 CFR 51.352—Basic I/M Performance Standard; 40 CFR 51.353—Network Type; 40 CFR 51.354—Adequate Tools and Resources; 40 CFR 51.355—Test Frequency and Convenience; 40 CFR 51.356—Vehicle Coverage; 40 CFR 51.357—Test Procedures and Standards; 40 CFR 51.358—Test Equipment; 40 CFR 51.359—Quality Control; 40 CFR 51.360—Waivers; 40 CFR 51.361—Motorist Compliance Enforcement; 40 CFR 51.362—Motorist Compliance Enforcement Program Oversight; 40 CFR 51.363—Quality Assurance; 40 CFR 51.364—Enforcement Against Contractors, Stations, and Inspectors; 40 CFR 51.365—Data Collection; 40 CFR 51.366—Data Analysis and Reporting; 40 CFR 51.367—Inspector Training and Licensing or Certification; 40 CFR 51.368—Public Information and Consumer Protection; 40 CFR 51.369—Improving Repair Effectiveness; 40 CFR 51.370—Compliance with Recall Notices; 40 CFR 51.371—On-road Testing; 40 CFR 51.372—State Implementation Plan Submittals; and 40 CFR 51.373—Implementation Deadlines.

D. Conclusion

Our review, as presented in our November 10, 2014 proposed rule (79 FR 66670) and reiterated herein, involved: (1.) Section X, Part F, Vehicle Inspection and Maintenance Program, (2.) Section X, Part F, Appendix 1, which is the Cache County Ordinance 2013-4, and (3.) Appendix 2, which is the BRHD's Regulation 2013-1, all as compared to the applicable provisions of 40 CFR 51, subpart S for a non-mandatory I/M program. Based on our review, we have determined that the SIP revisions sufficiently address the applicable provisions in 40 CFR 51, subpart S for a non-mandatory I/M program and that our approval is warranted. We are, therefore, approving the Cache County I/M program as described and authorized in Section X, Vehicle Inspection and Maintenance Program, Part F, which includes Appendix 1 which is the Cache County Ordinance 2013-4, and Appendix 2 which is the BRHD's Regulation 2013-1.

E. Special Consideration of the Diesel I/M Provisions in the BRHD's Regulation 2013-1

As we discussed in our proposed rule (79 FR 66670, November 10, 2014), the Cache County I/M program is not a CAA mandatory or otherwise required I/M program. EPA takes note of the provisions in the BRHD's Regulation 2013-1, Section 9.4.6, which states that “[a]ll diesel powered vehicles model year 1998 and newer shall be tested as specified in Appendix D, Diesel Test Procedures.” Appendix D of Regulation 2013-1 is entitled “Test Procedures” and contains test procedures for OBDII, Two Speed Idle (TSI), and for Diesel Powered Vehicles.

At this time, EPA has not promulgated specific I/M requirements for diesel I/M programs. We have, to date, only issued policy guidance regarding the gathering of OBD information from OBD-equipped diesel vehicles.³ As such, we do not have regulatory language in 40 CFR 51, subpart S to compare the diesel I/M requirements in the BRHD's Regulation 2013-1 for potential SIP approval and SIP credit. However, EPA does believe the above noted diesel I/M provisions in the BRHD's Regulation 2013-1 have potential merit for evaluating diesel vehicles and for reducing emissions from diesel vehicles. We are therefore also approving the diesel I/M provisions in the BRHD's Regulation 2013-1; however, our approval is only for the purposes of strengthening the SIP and we are not approving the provisions as a diesel I/M program nor assigning any SIP credit.

³ See EPA Office of Transportation and Air Quality: “Best Practices for Addressing OBD Readiness in IM Testing of Diesel Vehicles Under 14,000 Pounds Gross Vehicle Weight Rating,” March 07, 2013.

V. EPA's Evaluation of the State's Associated Revisions to Utah Rules R307-110-1, R307-110-31, and R307-110-36

A. Revisions to Utah Rule R307-110-1; Incorporation by Reference

As discussed in our proposed rule of November 10, 2014 (79 FR 66670), the purpose of the revisions to R307-110-1 is to incorporate by reference the Utah SIP into this section of the Utah Administrative Rules and to advise the public that the SIP is available on the UDAQ's Web site. EPA finds this an administrative revision that merely incorporates the Utah SIP into the State's Rules, which are a portion of Utah's Codified Law, along with providing the public information that the SIP can be accessed via the internet on the UDAQ's Web site. The revisions to R307-110-1 were adopted by the UAQB on December 5, 2012, became state-effective on December 6, 2012, and were as submitted by the Governor by a letter dated January 10, 2013. By a subsequent letter dated February 25, 2013, Bryce Bird, Director, UDAQ, submitted the necessary administrative documentation that supported the Governor's submittal.

B. Revisions to Utah Rule R307-110-31; Section X, Vehicle Inspection and Maintenance Program, Part A, General Requirements and Applicability

As discussed in our proposed rule of November 10, 2014 (79 FR 66670), the purpose of the revisions to R307-110-31 is to incorporate by reference into the Utah Rules, SIP Section X, Vehicle Inspection and Maintenance Program, Part A, General Requirements and Applicability, as adopted by the UAQB on December 5, 2012, and which became state-effective on December 6, 2012. The revisions to SIP Section X, Part A, were those as we discussed above in sections I, II, and III of this action, and in our proposed rule, and were as submitted by the Governor by a letter dated January 10, 2013. By a subsequent letter dated February 25, 2013, Bryce Bird, Director, UDAQ, submitted the necessary administrative documentation that supported the Governor's submittal.

C. Revisions to Utah Rule R307-110-36; Section X, Vehicle Inspection and Maintenance Program, Part F, Cache County

As discussed in our proposed rule of November 10, 2014 (79 FR 66670), the purpose of the revisions to R307-110-36 is to incorporate by reference into the Utah Rules, SIP Section X, Vehicle Inspection and Maintenance Program, Part F, Cache County, as initially adopted by the UAQB on December 5, 2012, and as superseded by the revisions as adopted by the UAQB on November 6, 2013. Those revisions that were adopted by the UAQB on November 6, 2013, became State-effective on November 7, 2013, and are the revisions to SIP Section X, Part F that we discussed above in sections I, II, and IV of this action and in our proposed rule. The November 7, 2013, effective revisions were submitted by the Governor by a letter dated January 28, 2014 and were supported by a subsequent letter, dated February 4, 2014, from Bryce Bird, Director, UDAQ, which submitted the necessary administrative documentation.

The revisions to Utah Rules R307-110-1, R307-110-31, and R307-110-36, as discussed in our proposed rule (79 FR 66670, November 10, 2014) and herein, incorporate by reference the applicable SIP revisions into the Utah Administrative Rules which then codifies them in the Utah Administrative Code. This is acceptable to EPA and we are, therefore, approving these SIP revisions to Utah Rules R307-110-1, R307-110-31, and R307-110-36.

VI. Consideration of Section 110(l) of the Clean Air Act

Section 110(l) of the CAA states that a SIP revision cannot be approved if the revision would interfere with any applicable requirement concerning attainment and reasonable further progress towards attainment of a NAAQS or any other applicable requirement of the CAA. The provisions of Utah SIP Section X, Part A contain I/M provisions that were previously approved by EPA and were also simultaneously contained in the Utah's SIP Section X for each of the county's I/M programs (i.e., Part B, Part C, Part D, and Part E). The SIP revisions to Section X, Part A do not weaken the previously approved requirements and provisions in Section X, Part A of the SIP, nor do they reduce the emission reductions achieved by the original program areas. Instead, the revisions to SIP Section X, Part A reorganize and expand the existing requirements and provisions, to reflect the redundant language that previously appeared in Parts B, C, D, and E, and to expand SIP Section X, Part A to include the Cache County I/M program (Part F). The revisions to SIP Section X, Part F incorporate a new I/M program for Cache County that will help to reduce PM2.5 precursor emissions of NOx and VOCs. The revisions to Utah Rules R307-110-1, R307-110-31, and R307-110-36 merely incorporate by reference the applicable SIP revisions into the Utah Administrative Rules which then codifies them in the Utah Administrative Code. In view of the above, EPA finds that the revisions to Utah SIP Section X, Part A, Utah SIP Section X Part F, and Utah Rules R307-110-1, R307-110-31, and R307-110-36 will not interfere with attainment, reasonable further progress, or any other applicable requirement of the CAA.

VII. Final Action

EPA is approving the January 10, 2013 submitted SIP revisions to Utah's SIP Section X, Vehicle Inspection and Maintenance Program, Part A, General Requirements and Applicability, and to Utah Rules R307-110-1 and R307-110-31. In addition, EPA is approving the January 28, 2014 submitted SIP revisions to Utah's SIP Section X, Vehicle Inspection and Maintenance Program, Part F, Cache County, with clarification below, and to Utah Rule R307-110-36.⁴ EPA clarifies that with its approval of Utah's SIP Section X, Vehicle Inspection and Maintenance Program, Part F, Cache County, Appendix 2, the provisions in the BRHD's Regulation 2013-1, Section 9.4.6 and the diesel test procedures as specified in BRHD's Regulation 2013-1, Appendix D are being approved only for purposes of strengthening the SIP. These provisions are not being approved as a diesel I/M program and are not being assigned any SIP credit.

⁴ In the February 25, 2013 letter from Bryce Bird, Utah proposed to renumber Utah Rule R307-110-36, Section XXIII, Interstate Transport to Utah Rule R307-110-37. EPA plans to take action on that request in a different rulemaking. By approving R307-110-36, Section X, Vehicle Inspection and Maintenance Program, Part F, Cache County in this action, EPA is not superseding or removing R307-110-36, Section XXIII, Interstate Transport from the federally-enforceable SIP.

VIII. Incorporation by Reference

In this rule, the EPA is finalizing regulatory text that includes incorporation by reference. In accordance with the requirements of 1 CFR 51.5, EPA is finalizing the incorporation by reference of the Utah SIP materials and rules described in the amendments to 40 CFR part 52 set forth below. The EPA has made, and will continue to make, these documents generally available electronically through www.regulations.gov and/or in hard copy at the appropriate EPA office (see the ADDRESSES section of this rule's preamble for more information).

IX. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting federal requirements and does not impose additional requirements beyond those imposed by state law. For that reason, this action:

• Is not a significant regulatory action subject to review by the Office of Management and Budget under Executive Orders 12866 (58 FR 51735, October 4, 1993) and 13563 (76 FR 3821, January 21, 2011);

• does not impose an information collection burden under the provisions of the Paperwork Reduction Act (44 U.S.C. 3501 et se.);

• is certified as not having a significant economic impact on a substantial number of small entities under the Regulatory Flexibility Act (5 U.S.C. 601 et se.);

• does not contain any unfunded mandate or significantly or uniquely affect small governments, as described in the Unfunded Mandates Reform Act of 1995 (Public Law 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by November 9, 2015. Filing a petition for reconsideration by the Administrator of this final rule does not affect the finality of this action for the purposes of judicial review nor does it extend the time within which a petition for judicial review may be filed, and shall not postpone the effectiveness of such rule or action. This action may not be challenged later in proceedings to enforce its requirements. (See CAA section 307(b)(2).)

List of Subjects in 40 CFR Part 52

Environmental protection, Air pollution control, Carbon monoxide, Incorporation by reference, Intergovernmental relations, Nitrogen dioxide, Ozone, Particulate matter, Reporting and recordkeeping requirements, and Volatile organic compounds.

Authority: 42 U.S.C. 7401 et seq.

Dated: July 1, 2015.
Shaun L. McGrath,
Regional Administrator, Region 8.

40 CFR part 52 is amended as follows:

PART 52 [AMENDED]

1. The authority citation for Part 52 continues to read as follows:

Authority: 42 U.S.C. 7401 et seq.

Subpart TT—Utah

2. Section 52.2320 is amended by adding paragraph (c)(80) to read as follows:

§ 52.2320 Identification of plan.

* * * * *

(c) * * *

(80) Revisions to the Utah State Implementation Plan involving Section X, Vehicle Inspection and Maintenance Program, Part A, General Requirements and Applicability, and Utah Rules R307-110-1 and R307-110-31. The Utah Air Quality Board (UAQB) adopted these SIP revisions on December 5, 2012, they became state effective on December 6, 2012, and were submitted by the Governor to EPA by a letter dated January 10, 2013. In addition, revisions to the Utah State Implementation Plan involving; Section X, Vehicle Inspection and Maintenance Program, Part F, Cache County and Utah Rule R307-110-36 were submitted for Agency action. These SIP revisions were adopted by the UAQB November 6, 2013, they became State effective on November 7, 2013, and were submitted by the Governor to EPA by a letter dated January 28, 2014.

(i) Incorporation by reference.

(A)(1) Utah Rules R307, Environmental Quality, Air Quality, R307-110, General Requirements: State Implementation Plan, R307-110-1, Incorporation by Reference, and R307-110-31, Section X, Vehicle Inspection and Maintenance Program, Part A, General Requirements and Applicability; effective December 6, 2012, as proposed in the Utah State Bulletin on October 1, 2012, and published as adopted in the Utah State Bulletin on January 1, 2013.

(2) Section X, Vehicle Inspection and Maintenance Program, Part A, General Requirements and Applicability, adopted by the Utah Air Quality Board on December 5, 2012. (B)(1) Utah Rule R307, Environmental Quality, Air Quality, R307-110, General Requirements: State Implementation Plan, R307-110-36, Section X, Vehicle Inspection and Maintenance Program, Part F, Cache County; effective November 7, 2013, as proposed in the Utah State Bulletin on September 1, 2013, and published as adopted in the Utah State Bulletin on December 1, 2013.

(2) Section X, Vehicle Inspection and Maintenance Program Part F, Cache County, adopted by the Utah Air Quality Board on November 6, 2013.

* * * * *

[FR Doc. 2015-22594 Filed 9-8-15; 8:45 am]

BILLING CODE 6560-50-P